DEPARTMENT OF ENERGY

Federal Energy Regulatory Commission

[Project No. 2242-078]

Eugene Water and Electric Board; Notice of Settlement Agreement and Soliciting Comments, Application Ready for Environmental Analysis and Soliciting Comments, Recommendations, Terms and Conditions, and Prescriptions, and Revised Schedule for Environmental Assessment

November 14, 2008.

Take notice that the following hydroelectric application has been filed with the Commission and is available for public inspection:

a. Type of Application: New Major License and Settlement Agreement.

b. Project No.: 2242-078.

c. Date Filed: The license application was filed on November 24, 2006. The settlement agreement was filed on October 23, 2008.

d. Applicant: Eugene Water and Electric Board.

e. Name of Project: Carmen-Smith Hydroelectric Project.

f. Location: On the McKenzie River in Lane and Linn Counties, near McKenzie Bridge, Oregon. The project occupies approximately 560 acres of the Willamette National Forest.

g. Filed Pursuant to: The license application was filed pursuant to Federal Power Act, 16 U.S.C. 791(a)-825(r). The settlement agreement was filed pursuant to Rule 602 of the Commission's Rules of Practice and Procedure, 18 CFR 385.602.

h. Applicant Contact: Randy L. Berggren, General Manager, Eugene Water and Electric Board, 500 East 4th Avenue, P.O. Box 10148, Eugene, OR 97440, (541) 484-2411.

i. FERC Contact: Bob Easton, (202) 502-6045 or robert.easton@ferc.gov.

j. Deadlines for Filing Comments: Comments on the settlement agreement are due 20 days from the issuance date of this notice, with reply comments due 30 days from the issuance date of this notice. Comments, recommendations, terms and conditions, and prescriptions are due 60 days from the issuance date of this notice, with reply comments due 105 days from the issuance date of this notice.

All documents (original and eight copies) should be filed with: Kimberly D. Bose, Secretary, Federal Energy Regulatory Commission, 888 First Street, NE., Washington, DC 20426.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site (http://www.ferc.gov) under the “e-Filing” link.

k. This application has been accepted for filing and is now ready for environmental analysis.

l. The Carmen-Smith Hydroelectric Project consists of two developments, the Carmen development and the Trail Bridge development. The Carmen development includes: (1) A 25-foot-high, 2,100-foot-long, and 10-foot-wide earthen Carmen diversion dam with a concrete weir spillway, (2) a 11,380-foot-long by 9.5-foot-diameter concrete Carmen diversion tunnel located on the right abutment of the spillway, (3) a 235-foot-high, 1,100-foot-long, and 15-foot-wide earthen Smith diversion dam with a gated Ogee spillway, (4) a 7,275-foot-long by 13.5-foot-diameter concrete-lined Smith power tunnel, (5) a 1,160-foot-long by 13-foot-diameter steel underground Carmen penstock, (6) a 86-foot-long by 79-foot-wide Carmen powerhouse, (7) two Francis turbines each with a generating capacity of 52.25 megawatts (MW) for a total capacity of 104.50 MW, (8) a 19-mile, 115-kilovolt (kV) transmission line that connects the Carmen powerhouse to the Bonneville Power Administration's Cougar-Eugene transmission line; and (9) appurtenant facilities.

The Trail Bridge development includes: (1) A 100-foot-high, 700-foot-long, and 24-foot-wide earthen Trail Bridge dam section with a gated Ogee spillway, (2) a 1,000-foot-long and 20-foot-wide emergency spillway section, (3) a 300-foot-long by 12-foot-diameter concrete penstock at the intake that narrows to a diameter of 7 feet, (4) a 66-foot-long by 61-foot-wide Trail Bridge powerhouse, (5) one Kaplan turbine with a generating capacity of 9.975 MW; (6) a one-mile, 11.5-kV distribution line that connects the Trail Bridge powerhouse to the Carmen powerhouse; and (7) appurtenant facilities.

m. EWEB filed the Relicensing Settlement Agreement on behalf of itself and the National Marine Fisheries Service, U.S. Fish and Wildlife Service, U.S. Department of Agriculture Forest Service, Oregon Department of Environmental Quality, Oregon Department of Fish and Wildlife, Oregon Parks and Recreation Department, Confederated Tribes of the Grand Ronde Community of Oregon, Confederated Tribes of Siletz Indians of Oregon, Confederated Tribes of the Warm Springs Reservation of Oregon, American Whitewater, Cascadia Wildlands Project, Oregon Hunters Association, Oregon Wild, Rocky Mountain Elk Foundation, McKenzie Flyfishers, and Trout Unlimited. The purpose of the agreement is to balance the interests of all the parties and to provide a balance between the resources affected by the project and project operations. The agreement is also designed to satisfy the interests of state and federal agencies with statutory authority, trust responsibility, and obligations associated with resources that may be affected by the project. The agreement includes environmental protection, mitigation, and enhancement measures through a series of proposed license articles and exhibits to the agreement, as well as other provisions related to items such as the duration of the new license, coordination and decision making, commitments of governmental parties under related statutory authorities, dispute resolution and agreement termination, and other general provisions. EWEB requests on behalf of all the parties that the proposed license articles be incorporated into the new license by the Commission without material modification.

n. A copy of the application and the settlement agreement is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

o. A license applicant must file no later than 60 days following the date of issuance of this notice: (1) A copy of the water quality certification; (2) a copy of the request for certification, including proof of the date on which the certifying agency received the request; or (3) evidence of waiver of water quality certification.

p. Procedural schedule: At this time we anticipate preparing one environmental assessment (EA). Recipients will have 30 days to provide the Commission with any written comments on the EA. A revised EA may be prepared based on the comments received. The application will be processed according to the following schedule. Revisions to the schedule will be made as appropriate.

Comments, terms and conditions due | January 2009
Reply comments due | March 2009
Notice of the Availability of the EA | May 2009
End of public comment period on EA | June 2009
Final decision on license | February 2010

Kimberly D. Bose,
Secretary.

[FR Doc. E8-27566 Filed 11-19-08; 8:45 am]

BILLING CODE 6717-01-P